DEPARTMENT OF DEFENSE

Department of the Army

DEPARTMENT OF AGRICULTURE

Forest Service

Notice of Intent To Prepare an Environmental Impact Statement (EIS) for Force Transformation and Mission Capability Enhancements, Joint Readiness Training Center and Fort Polk, LA and Long Term Military Training Use of Kisatchie National Forest Lands

AGENCY: Department of the Army, DoD; Forest Service, USDA.

ACTION: Notice of Intent.

SUMMARY: The Joint Readiness Training Center (JRTC) and Fort Polk (Army), and the Forest Service (USDA), Region 8, Kisatchie National Forest, as lead and cooperation agencies respectively, are initiating the preparation of an EIS pursuant to Section 102(2)(C) of the National Environmental Policy Act. This EIS will evaluate potential impacts associated with the Army's proposal for implementing force transformation and mission capability enhancements at the JRTC and Fort Polk, Louisiana, along with long-term military training use of the Kisatchie National Forest. Based on the results of the EIS and consideration of all relevant factors, the Army will determine how best to provide for military training, readiness and facilities requirements. The Forest Service will determine what military activities and land uses may occur on national forest lands and how best to balance military and non-military uses. The EIS will also serve as a foundation for the Army's application to the Forest Service to renew its permit for continued use of portions of the Kisatchie National Forest. A range of alternatives, including no action, will be considered in the EIS. Action alternatives will include options for construction, siting and design of facilities and the types and intensities of maneuver and gunnery exercises to occur within the following areas: Army lands at Fort Polk and Peason Ridge Training Area; portions of the Vernon Unit and Kisatchie District of the Kisatchie National Forest designated as the Intensive Use Area, Limited Use Area and Special Limited Use Area under the Army's current Special Use Permit; and at England Industrial Airpark, the Army's port of embarkation at Alexandria, Louisiana. Military use of surrounding private, non-residential lands under contractual lease or other agreement will also be evaluated.

DATES: All comments must be received or postmarked by May 7, 2002 to be considered in the preparation of the Draft EIS.

ADDRESSES: Please send written comments to: Dan Nance, Public Affairs Office, 7073 Radio Road, Fort Polk, LA 71459-5342; fax: (337) 531-6014; e-mail: eis@polk.army.mil.

FOR FURTHER INFORMATION CONTACT: Stacy Basham-Wagner, Joint Agency Liaison, Attention: AFZX-PW-E (Basham-Wagner), 1799 23rd Street, Fort Polk, LA 71459; telephone: (337) 531-7458, fax: (337) 531-2627; or Dan Nance, Public Affairs Office, 7073 Radio Road, Fort Polk, LA 71459-5342; telephone: (337) 531-7203, fax: (337) 531-6014.

SUPPLEMENTARY INFORMATION: The Kisatchie National Forest encompasses approximately 604,000 acres of national forest land in northwest and west-central Louisiana. The JRTC and Fort Polk is located in Vernon Parish, in west-central Louisiana. The main post consists of 107,024 acres that are divided between Army fee-owned land on the northern portion of the post (66,998 acres) and Forest Service fee-owned land on the southern portion (40,026 acres) referred to as the Intensive Use Area (IUA). The IUA is used intensively by the Army under the terms of a Special Use Permit (SUP) agreement between the Forest Service and Fort Polk. An area contiguous to and south of the main post is used for less intensive military training under the terms of the SUP an is known as the Limited Use Area (LUA). The LUA consists of 44,799 acres that are fee-owned and managed by the Forest Service. Peason Ridge is a non-contiguous training area north of the main post consisting of Army lands (33,011 acres) and Forest Service lands (480 acres). North of Peason Ridge is an area referred to as the Special Limited Use Area (SLUA) in the SUP, consisting of 12,820 acres. The SLUA is made available for limited training by JRTC and Fort Polk.

The JRTC, established at Fort Polk in 1993, is the only Combat Training Center devoted to and capable of supporting Army light infantry brigade-level training. JRTC training focuses on training light infantry with support from armor, mechanized equipment, and aircraft. Ten JRTC rotations (extensive field training exercises for visiting Army brigade and supporting Air Force, Navy and Marine units) are normally conducted at Fort Polk each year, with an average of more than 5,000 troops involved in each training event.

Fort Polk also serves as an Army power projection platform from which fores deploy by air, rail and sea to areas of operation around the world. It is home to the 2d Armored Cavalry Regiment (Light) (2d ACR) and several other rapid deployment and combat service support units. In addition to the 2d ACR, active Army units assigned to Fort Polk include the 519th Military Police Battalion (519th MP Bn); the Warrior Brigade, consisting of the 46th Engineer Battalion, 83d Chemical Battalion, 115th Field Hospital, 142d Corps Support Battalion, and Headquarters and Headquarters Company, U.S. Army Garrison; and the 1st Battalion, 509th Infantry (1-509 IN), which portrays the Opposing Force during JRTC rotations. Fort Polk also provides training opportunities for the 256th Brigade (Mechanized) (Enhanced), Louisiana Army National Guard (LANG) and various reserve component units.

In October 1999, the Secretary of the Army and the Chief of Staff of the Army articulated a vision to posture the Army to meet the demands of the 21st century: The Army Vision is about people, readiness, and transformation. Transformation addresses the need for change based on emerging security challenges of the 21st century. Chief among these challenges is the need to be able to respond more rapidly to different types of operations requiring military action. Toward these ends, the Army will field an Interim Force to address strategic near-term capability gaps and to validate and develop operational concepts on which subsequent transformation planning and implementation activities can logically build. Ultimately, the Army will field an Objective Force designed to render the Army more responsive, deployable, agile, versatile, lethal, survivable, and sustainable.

In support of Army initiatives to meet evolving security requirements, the Army has designated the 2d ACR to transform as an element of the Interim Force to the 2d Interim Cavalry Regiment (2d ICR), a medium-weight force that is strategically responsive and more rapidly deployable by air. In addition to transformation of the 2d ACR, other medium-weight, brigade-sized Interim Force elements—known as Interim Brigade Combat Teams (IBCTs)—would participate in rotational exercises at JRTC and Fort Polk.

To these ends, the Army proposes to implement force transformation and mission capability enhancements at JRTC and Fort Polk with respect to home station training (maneuver and gunnery exercises for Army units assigned to Fort Polk), rotational unit exercises, and facilities construction. The purpose of the proposed action is to bring the Interim Force to operational capability and to support an ICR that will function as part of the Interim Force; to provide realistic, advanced field training, modernized weapons training, and performance evaluation opportunities for IBCTs and other Army brigades; and to provide training lands and supporting facilities for both rotational brigades and for forces assigned to Fort Polk. The need for the proposed action is to provide the Nation with capabilities that meet current and evolving national defense requirements.

The proposed action involves federal jurisdictions of the Army and Forest Service. The decision to be made by the Army, based on the results of the EIS and upon consideration of all relevant factors (including mission, cost, technical factors, and environmental considerations) is how best to provide for military training, readiness and facilities requirements while ensuring the sustained use of resources entrusted to the stewardship of the Army. The decision to be made by the Forest Service is what military activities and land uses may occur on national forest lands and how best to balance military and non-military uses while sustaining resources entrusted to Forest Service stewardship. In addition, the information compiled in the EIS will serve as a foundation for the Army's application to the Forest Service to renew its permit for continued use of Kisatchie National Forest lands.

The Army's proposed actions associated with force transformation and mission capability enhancements at JRTC and Fort Polk may be categorized into the following six activity groups:

(1) Systems Fielding. This activity group involves fielding of new and modernized vehicles, weapons systems and equipment for Interim Forces, including the Mobile Gun System and a family of interim armored vehicles (IAVs).

(2) Construction. This activity group includes construction, modernization and revitalization of buildings, training facilities (e.g., live fire ranges), and infrastructure. Proposed construction activities and infrastructure improvements are divided according to location in one of six areas: Fort Polk cantonment areas; Fort Polk maneuver areas and ranges; Peason Ridge maneuver areas and ranges; Forest Service IUA; Forest Service LUA; and England Industrial Airpark, the Army's port of embarkation at Alexandria, Louisiana.

—Fort Polk Cantonment Areas: Proposed construction activities within the Fort Polk cantonment areas include repair of the Fort Polk Army airfield and taxiway and construction of the following: (a) A new 77,500 square foot Mission Training Support Facility, (b) an aircraft maintenance hangar at the Fort Polk airfield, (c) a deployment storage facility, (d) an arms storage facility, (e) a battalion headquarters and materials maintenance center, (f) a company headquarters facility, (g) a consolidated rigging facility, and (h) a pre-positioned equipment and maintenance complex.

—Fort Polk Maneuver Areas and Ranges. Proposed construction activities in the Fort Polk maneuver areas and ranges include: (a) Digitization of the existing Multi-Purpose range Complex, (b) construction of a sniper range at an existing small arms range and a pallet processing facility, and (c) expansion of the existing alert holding area and the ammunition supply point.

—Forest Service IUA: Construction activities proposed in the IUA include: (a) Approximately 18 miles of new road construction and improvements, including stream crossings, and (b) modernization of existing firing ranges.

—Forest Service LUA: Proposed construction activities in the LUA include: (a) Stream crossing and road/trail improvements at up to 38 sites, (b) upgrade of existing roads and road segments, and (c) potential construction of new roads.

—England Industrial Air Park. Proposed construction activities at England Industrial Air Park include: (a) Construction of ammunition loading pads, (b) a passenger processing facility, and (c) upgrade of the north aircraft ramp.

(3) Land Transaction. This activity group involves Army use of lands through permit, lease or other agreement. Proposed land transactions include continued use of Kisatchie National Forest lands through Special Use Permit agreement between the Army and Forest Service and use of private, non-residential lands under contractual lease or other agreement. No acquisition of land through purchase or withdrawal of public domain lands is proposed.

(4) Deployment. This activity group involves operational deployment of forces, as well as training that is specifically tied to deployment of forces. Deployment or training for deployment of Army units from Fort Polk would occur at England Industrial Airpark or by rail or seaport.

(5) Training. This activity group involves achieving and maintaining readiness to perform assigned missions, along with management of training ranges and maneuver areas. Proposed training includes both brigade-level training rotations at JRTC and training exercises for Army units assigned to Fort Polk.

—JRTC Rotational Exercises: Proposals related to JRTC rotational exercises pertain to (a) continuation of field training exercises involving conventional light infantry brigades (two battalions in the field), (b) expanded operations and larger field training exercises involving conventional light infantry brigades (three battalions in the field), (c) the use of new vehicles and tactics and expanded field training exercises involving IBCTs (three battalions in the field), (d) the use of additional tracked vehicles in armor and mechanized battalion rotations, (e) continuation of mission rehearsal exercises, and (f) changes in equipment and use of additional vehicles by Opposing Forces.

—Home Station Training: Proposals related to home station exercises (i.e., maneuver and gunnery training for Army units assigned to Fort Polk) pertain to (a) new training requirements for the 2d ACR as it transforms to become the 2d ICR, (b) continued training of the 519th MP Bn, (c) continued training of the Warrior Brigade, including designation of additional simulant release sites in support of biological detection system (BIDS) training, (d) continued training of the 1-509th IR in its role as Opposing Forces for rotational units and (e) continued training of the LANG.

(6) Environmental Stewardship. Proposed environmental stewardship activities include continuation of the following: (a) Implementation of approved Army and Forest Service management and monitoring requirements for the red-cockaded woodpecker and its habitat, (b) implementation of approved integrated natural and cultural resource management plans, (c) management of Exemplary Natural Areas, (d) implementation of sustainable design and development principles, (e) development and implementation of adaptive ecosystem management strategies and practices, and (f) development and implementation of an Environmental Management System for JRTC and Fort Polk.

Scoping and Public Involvement: The scoping process begun by this notice of intent will help to clarify issues of major concern, may identify any information sources available to analyze and evaluate impacts, and obtain public input on the range and acceptability of alternatives. Based on the results of scoping the Army and Forest Service will develop a range of alternatives, including no action. Action alternatives will include options for construction, siting and design of facilities and the types and intensities of maneuver and gunnery exercises to occur within Army lands at Fort Polk and Peason Ridge; the IUA, LUA and SLUA of the Kisatchie National Forest; and at England Industrial Airpark in Alexandria, Louisiana. Military use of surrounding private, non-residential lands under contractual lease or other agreement will also be evaluated.

The Army and Forest Service recognize numerous issues of concern that will affect selection of alternatives and identification of issues to be addressed in the EIS. A representative listing of such issues includes: changes in operational training intensity, sustainability of training lands (maneuver areas and ranges), historic land uses and changes in land conditions, red-cockaded woodpecker status and recovery, status of Management Indicator Species and their habitats, rare and sensitive species, soil erosion, surface and groundwater resources, scenic streams and streamside management zones, air quality, energy consumption, pollution prevention, socioeconomic conditions, recreational opportunities and public access, noise, road conditions and other effects on LUA residents and surrounding communities, and cumulative effects. Additional issues of concern may be identified as a result of the scoping process.

The Army and Forest Service invite the general public, local governments, Federally recognized Indian tribes, other Federal agencies, and state agencies to submit written comments concerning the scope of the issues to be addressed, alternatives to be analyzed, and the environmental impacts and cultural impacts to be addressed in the DEIS. The Army and Forest Service will jointly conduct open houses/workshops to enable the submission of oral or written comments by all interested parties. Oral and written comments will be considered equally in preparation of the DEIS. The open house/workshops will be held in Shreveport, Leesville, and Baton Rouge, Louisiana, in March 2002. The dates, times, and specific locations of the open house/workshops will be announced at least 15 days before each session. Persons or organizations unable to attend the open house/workshop sessions are invited to submit written comments not later than 60 days from the date of this NOI to the individual and office shown in the addresses given above.

Dated: March 1, 2002.
Raymond J. Fatz,
Deputy Assistant Secretary of the Army (Environment, Safety and Occupational Health) OASA(I&E).

[FR Doc. 02-5566 Filed 3-7-02; 8:45 am]

BILLING CODE 3710-08-M